DEPARTMENT OF ENERGY

Federal Energy Regulatory Commission

Combined Notice of Filings #1

Take notice that the Commission received the following electric corporate filings:

Docket Numbers: EC19-109-000.

Applicants: Paulding Wind Farm IV LLC.

Description: Application for Authorization Under Section 203 of the Federal Power Act, et al. of Paulding Wind Farm IV LLC.

Filed Date: 7/2/19.

Accession Number: 20190702-5223.

Comments Due: 5 p.m. ET 7/23/19.

Docket Numbers: EC19-110-000.

Applicants: Zephyr Wind, LLC.

Description: Application for Authorization Under Section 203 of the Federal Power Act, et al. of Zephyr Wind, LLC.

Filed Date: 7/2/19.

Accession Number: 20190702-5225.

Comments Due: 5 p.m. ET 7/23/19.

Take notice that the Commission received the following exempt wholesale generator filings:

Docket Numbers: EG19-145-000.

Applicants: Wilton Wind Energy II, LLC.

Description: Notice of Self-Certification of Exempt Wholesale Generator Status of Wilton Wind Energy II, LLC.

Filed Date: 7/2/19.

Accession Number: 20190702-5184.

Comments Due: 5 p.m. ET 7/23/19.

Docket Numbers: EG19-146-000.

Applicants: Roadrunner Solar Project, LLC.

Description: Self-Certification of EWG Status of Roadrunner Solar Project, LLC.

Filed Date: 7/2/19.

Accession Number: 20190702-5228.

Comments Due: 5 p.m. ET 7/23/19.

Docket Numbers: EG19-147-000.

Applicants: High Lonesome Wind Power, LLC.

Description: Self-Certification of EWG Status of High Lonesome Wind Power, LLC.

Filed Date: 7/2/19.

Accession Number: 20190702-5230.

Comments Due: 5 p.m. ET 7/23/19.

Take notice that the Commission received the following electric rate filings:

Docket Numbers: ER06-1128-002.

Applicants: Mankato Energy Center, LLC.

Description: Notification of non-material change in status of Mankato Energy Center, LLC.

Filed Date: 5/24/19.

Accession Number: 20190524-5273.

Comments Due: 5 p.m. ET 7/17/19.

Docket Numbers: ER10-2042-031; ER10-1862-025; ER10-1865-011; ER10-1873-011; ER10-1875-011; ER10-1876-011; ER10-1878-011; ER10-1883-011; ER10-1884-011; ER10-1885-011; ER10-1888-011; ER10-1893-025; ER10-1938-026; ER10-1947-011; ER10-2985-029; ER10-3049-030; ER10-3051-030; ER11-4369-010; ER12-1987-009; ER12-2261-010; ER12-2645-004; ER13-1407-008; ER16-2218-010; ER19-1127-001; ER19-1934-001; ER19-1941-001; ER19-1942-001; ER19-696-001.

Applicants: Calpine Energy Services, L.P., Calpine Construction Finance Company, L.P., Calpine Energy Solutions, LLC, Calpine Gilroy Cogen, L.P., Calpine King City Cogen, LLC, Calpine PowerAmerica—CA, LLC, CCFC Sutter Energy, LLC, CES Marketing IX, LLC, CES Marketing X, LLC, Champion Energy, LLC, Champion Energy Marketing LLC, Champion Energy Services, LLC, Creed Energy Center, LLC, Delta Energy Center, LLC, Geysers Power Company, LLC, Gilroy Energy Center, LLC, Goose Haven Energy Center, LLC, Los Esteros Critical Energy Facility LLC, Los Medanos Energy Center, LLC, Metcalf Energy Center, LLC, North American Power and Gas, LLC, North American Power Business, LLC, O.L.S. Energy-Agnews, Inc., Otay Mesa Energy Center, LLC, Pastoria Energy Facility L.L.C., Power Contract Financing, L.L.C., Russell City Energy Company, LLC, South Point Energy Center, LLC.

Description: Updated Market Power Analysis of the Calpine Southwest MBR Sellers.

Filed Date: 7/1/19.

Accession Number: 20190702-5248.

Comments Due: 5 p.m. ET 8/30/19.

Docket Numbers: ER19-1932-002.

Applicants: Duke Energy Progress, LLC.

Description: Tariff Amendment: Amendment to DEP-PJM Amended JOA Concurrence to be effective 7/22/2019.

Filed Date: 7/2/19.

Accession Number: 20190702-5138.

Comments Due: 5 p.m. ET 7/23/19.

Docket Numbers: ER19-2342-000.

Applicants: AEP Texas Inc.

Description: § 205(d) Rate Filing: AEPTX-231RC 8ME (Norton Solar) Interconnection Agreement to be effective 6/20/2019.

Filed Date: 7/2/19.

Accession Number: 20190702-5171.

Comments Due: 5 p.m. ET 7/23/19.

Docket Numbers: ER19-2343-000.

Applicants: 2018 ESA Project Company, LLC.

Description: Baseline eTariff Filing: MBR Application and Tariff to be effective 9/1/2019.

Filed Date: 7/2/19.

Accession Number: 20190702-5172.

Comments Due: 5 p.m. ET 7/23/19.

Docket Numbers: ER19-2344-000.

Applicants: Cheyenne Light, Fuel and Power Company.

Description: § 205(d) Rate Filing: Subentity Reserve Sharing Agreement Concurrence (CLFP) to be effective 9/3/2019.

Filed Date: 7/2/19.

Accession Number: 20190702-5196.

Comments Due: 5 p.m. ET 7/23/19.

Docket Numbers: ER19-2345-000.

Applicants: PJM Interconnection, L.L.C.

Description: § 205(d) Rate Filing: Original WMPA, SA No. 5418; Queue No. AD2-049 to be effective 6/9/2019.

Filed Date: 7/2/19.

Accession Number: 20190702-5198.

Comments Due: 5 p.m. ET 7/23/19.

Docket Numbers: ER19-2346-000.

Applicants: Black Hills Colorado Electric, LLC.

Description: § 205(d) Rate Filing: Subentity Reserve Sharing Agreement Concurrence (BHCE) to be effective 9/3/2019.

Filed Date: 7/2/19.

Accession Number: 20190702-5200.

Comments Due: 5 p.m. ET 7/23/19.

Docket Numbers: ER19-2347-000.

Applicants: California Independent System Operator Corporation.

Description: § 205(d) Rate Filing: TBD Local Market Power Mitigation Enhancements to be effective 10/14/2019.

Filed Date: 7/2/19.

Accession Number: 20190702-5204.

Comments Due: 5 p.m. ET 7/23/19.

Docket Numbers: ER19-2348-000.

Applicants: Black Hills Colorado Electric, LLC.

Description: § 205(d) Rate Filing: Tariff Revisions for Subentity Reserve Sharing Agreement (BHCE) to be effective 9/3/2019.

Filed Date: 7/2/19.

Accession Number: 20190702-5206.

Comments Due: 5 p.m. ET 7/23/19.

Docket Numbers: ER19-2349-000.

Applicants: Cheyenne Light, Fuel and Power Company.

Description: § 205(d) Rate Filing: Tariff Revisions for Subentity Reserve Sharing Agreement (CLFP) to be effective 9/3/2019.

Filed Date: 7/2/19.

Accession Number: 20190702-5208.

Comments Due: 5 p.m. ET 7/23/19.

Docket Numbers: ER19-2350-000.

Applicants: Black Hills Power, Inc.

Description: § 205(d) Rate Filing: Tariff Revisions for Subentity Reserve Sharing Agreement (BHP) to be effective 9/3/2019.

Filed Date: 7/2/19.

Accession Number: 20190702-5210.

Comments Due: 5 p.m. ET 7/23/19.

Take notice that the Commission received the following electric securities filings:

Docket Numbers: ES19-33-000.

Applicants: Northern Indiana Public Service Company.

Description: Supplement to June 11, 2019 Application under Section 204 of the Federal Power Act for Authorization to Issue Securities of Northern Indiana Public Service Company LLC.

Filed Date: 7/2/19.

Accession Number: 20190702-5213.

Comments Due: 5 p.m. ET 7/9/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 3, 2019.
Kimberly D. Bose,
Secretary.

[FR Doc. 2019-14676 Filed 7-9-19; 8:45 am]

BILLING CODE 6717-01-P